NATIONAL SCIENCE FOUNDATION

Notice of Permit Applications Received Under the Antarctic Conservation Act of 1978 (P.L. 95-541)

AGENCY: National Science Foundation.

ACTION: Notice of permit modification received under the Antarctic Conservation Act of 1978, Pub. L. 95-541.

SUMMARY: The National Science Foundation (NSF) is required to publish a notice of requests to modify permits issued to conduct activities regulated under the Antarctic Conservation Act of 1978. NSF has published regulations under the Antarctic Conservation Act at Title 45 Part 670 of the Code of Federal Regulations. This is the required notice of a requested permit modification.

DATES: Interested parties are invited to submit written data, comments, or views with respect to these permit applications by June 1, 2001. Permit applications may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Public Law 95-541), has developed regulations that implement the “Agreed Measures for the Conservation of Antarctic Fauna and Flora” for all United States citizens. The Agreed Measures, developed by the Antarctic Treaty Consultative Parties, recommended establishment of a permit system for various activities in Antarctica and designation of certain animals and certain geographic areas a requiring special protection. The regulations establish such a permit system to designate Specially Protected Areas and Sites of Special Scientific Interest.

Description of Permit Modification Requested

The Foundation issued a permit (2000-001) to Dr. Steven D. Emslie on September 21, 1999. The issued permit allows the applicant access to certain Antarctic Specially Protected Areas in order to conduct surveys and excavations of modern and abandoned penguin colonies by surveying ice-free areas to locate evidence of a breeding colony (pebble and/or bone concentrations, and rich vegetation). Not all sites will be visited in single season and access depends upon research vessel cruise tracks and accessibility to the site(s). The sites visited would be sampled by placing a test pit, no more than 1x1 meter in size, in the colony and excavating in 5-10 cm level until bedrock or non-ornithogenic sediments are encountered. To minimize impacts, test pits will be placed in areas with little or no vegetation when possible. Upon completion of the excavation, test pits would be refilled and any vegetation disturbed on the surface replaced. Collected sediments will be taken to the laboratory for processing. Sediments will be washed through fine-mesh screens; all organic remains will be sorted from the sediments and preserved for identification and analysis.

The applicant proposes access additional Antarctic Specially Protected Areas only on an opportunity basis depending upon vessel cruise tracks and schedules. The additional ASPA's are listed under Location, below:

Location

ASPA 102—Rookery Islands, Holme Bay

ASPA 103—Ardery Island and Odbert Island, Budd Coast

ASPA 104—Sabrina Island, Balleny Islands

ASPA 109—Moe Island, South Orkneys

ASPA 110—Lynch Island, South Orkneys

ASPA 111—Southern Powell Island and adjacent islands, South Orkneys

ASPA 114—North Coronation Island, South Orkneys

ASPA 127—Haswell Island

ASPA 135—Bailey Peninsula, Budd Coast

ASPA 136—Clark Peninsula, Budd Coast

Nadene G. Kennedy,
Permit Officer, Office of Polar Programs.

[FR Doc. 01-10674 Filed 4-27-01; 8:45 am]

BILLING CODE 7555-01-M